CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled AmeriCorps Member Application for review and approval in accordance with the Paperwork Reduction Act of 1995, Public Law 104-13, (44 U.S.C. Chapter 35). Copies of this ICR, with applicable supporting documentation, may be obtained by calling the Corporation for National and Community Service, Erin Dahlin at 202-606-6931 or email to edahlin@cns.gov. Individuals who use a telecommunications device for the deaf (TTY-TDD) may call 1-800-833-3722 between 8:00 a.m. and 8:00 p.m. Eastern Time, Monday through Friday.

DATES: Comments may be submitted, identified by the title of the information collection activity, within November 2, 2015.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the efficient performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on May 18, 2015, Vol. 80 page 28245. This comment period ended July 17, 2015. Two public comments were received from this Notice. All comments were incorporated or will be incorporated in the next more substantive revision.

Description: CNCS awards grants to states, institutions of higher education, non-profit organizations, Indian tribes, and U.S. Territories to operate AmeriCorps State, AmeriCorps National, and Senior Corps programs. CNCS also operates the AmeriCorps NCCC and AmeriCorps VISTA programs. This information collection comprises the questions applicants answer to apply to be an AmeriCorps member in an AmeriCorps State, AmeriCorps National, AmeriCorps NCCC and AmeriCorps VISTA.

Type of Review: Renewal.

Agency: Corporation for National and Community Service.

Title: AmeriCorps Member Application.

OMB Number: 3045-0054.

Agency Number: None.

Affected Public: Members of the public applying to be AmeriCorps members.

Total Respondents: 225,000.

Frequency: Annual.

Average Time per Response: 1.25 hours.

Estimated Total Burden Hours: 281,250 hours.

Total Burden Cost (capital/startup): None.

Total Burden Cost (operating/maintenance): None.

Dated: September 25, 2015.
Erin Dahlin,
Deputy Chief of Program Operations.

[FR Doc. 2015-24958 Filed 9-30-15; 8:45 am]

BILLING CODE 6050-28-P